INTERNATIONAL TRADE COMMISSION

[Investigations Nos. 701-TA-413 and 731-TA-913-918 (Final)]

Stainless Steel Bar From France, Germany, Italy, Korea, Taiwan, and the United Kingdom

AGENCY: United States International Trade Commission.

ACTION: Revised schedule for the subject investigations.

EFFECTIVE DATE: November 13, 2001.

FOR FURTHER INFORMATION CONTACT: Larry Reavis (202-205-3185), Office of Investigations, U.S. International Trade Commission, 500 E Street SW., Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (http://www.usitc.gov). The public record for these investigations may be viewed on the Commission's electronic docket (EDIS-ON-LINE) at http://dockets.usitc.gov/eol/public.

SUPPLEMENTARY INFORMATION: On September 17, 2001, the Commission established a schedule for the conduct of the final phase of the subject investigations (Federal Register 66 FR 48063, September 17, 2001). Subsequently, the Department of Commerce moved the date for its final determinations in the investigations from December 17, 2001, to January 15, 2001. The Commission, therefore, is revising its schedule to conform with Commerce's new schedule.

The Commission's new schedule for the investigations is as follows: requests to appear at the hearing must be filed with the Secretary to the Commission not later than January 10, 2002; if parties are not able to agree on time allocations (within the prescribed limit) for the hearing, a prehearing conference will be held at the U.S. International Trade Commission Building at 9:30 a.m. on January 15, 2002; the prehearing staff report will be placed in the nonpublic record on January 4, 2002; the deadline for filing prehearing briefs is January 11, 2002; the hearing will be held at the U.S. International Trade Commission Building at 9:30 a.m. on January 17, 2002; the deadline for filing posthearing briefs is January 25, 2002; the Commission will make its final release of information on February 12, 2002; and final party comments are due on February 14, 2002.

For further information concerning these investigations see the Commission's notice cited above and the Commission's Rules of Practice and Procedure, part 201, subparts A through E (19 CFR part 201), and part 207, subparts A and C (19 CFR part 207).

Authority: These investigations are being conducted under authority of title VII of the Tariff Act of 1930; this notice is published pursuant to section 207.21 of the Commission's rules.

Issued: November 14, 2001.
By order of the Commission.
Donna R. Koehnke,
Secretary.

[FR Doc. 01-28902 Filed 11-19-01; 8:45 am]

BILLING CODE 7020-02-P